DEPARTMENT OF THE INTERIOR

Bureau of Land Management

[LLCAD06000 L51010000.FX0000.LVRWB12B4920 CACA 49491]

Notice of Availability of the Desert Harvest Solar Project Final Environmental Impact Statement, Riverside County, CA and the Proposed California Desert Conservation Area Plan Amendment

AGENCY: Bureau of Land Management, Interior.

ACTION: Notice.

SUMMARY: In accordance with the National Environmental Policy Act of 1969, as amended, and the Federal Land Policy and Management Act of 1976, as amended, the Bureau of Land Management (BLM) has prepared a Proposed California Desert Conservation Area (CDCA) Plan Amendment and Final Environmental Impact Statement (EIS) for the Desert Harvest Solar Project and by this notice is announcing its availability.

DATES: BLM planning regulations state that any person who meets the conditions as described in the regulations may protest the BLM's Proposed CDCA Plan Amendment. A person who meets the conditions and files a protest must file the protest within 30 days of the date that the Environmental Protection Agency publishes its notice in the Federal Register.

ADDRESSES: Copies of the Desert Harvest Solar Project Proposed CDCA Plan Amendment and Final EIS have been sent to affected Federal, State, and local government agencies and to other stakeholders, including tribal governments and interested parties. Copies of the Proposed CDCA Plan Amendment and Final EIS are available for public inspection at the BLM California Desert District Office, 22835 Calle San Juan de Los Lagos, Moreno Valley, CA 92553 and at the BLM Palm Springs South Coast Field Office at 1201 Bird Center Drive, Palm Springs, CA 92262. Interested persons may also review the Proposed CDCA Plan Amendment/Final EIS on the Internet at http://www.blm.gov/ca/st/en/fo/palmsprings/Solar_Projects/Desert_Harvest_Solar_Project.html. However, all protests must be in writing and mailed to one of the following addresses:

Regular Mail: BLM Director (210), Attention: Brenda Williams, P.O. Box 71383, Washington, DC 20024-1383.

Overnight Mail: BLM Director (210), Attention: Brenda Williams, 20 M Street SE., Room 2134LM, Washington, DC 20003.

FOR FURTHER INFORMATION CONTACT: Frank McMenimen, Project Manager, telephone 760-833-7150; address BLM Palm Springs South Coast Field Office at 1201 Bird Center Drive, Palm Springs, CA 92262; email fmcmenimen@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The applicant, EDF Renewable Resources (formally enXco), has requested a right-of-way authorization to construct, operate, maintain, and decommission a solar photovoltaic electricity generating facility with a proposed output of 150 megawatts and a project footprint of approximately 1,208 acres. The proposed project would be located on BLM-administered lands in Riverside County 6 miles north of the rural community of Desert Center, California. The overall site layout and generalized land uses include a substation, an administration building, operations and maintenance facilities, a transmission line, and temporary construction lay down areas. The project's 230-kilovolt (kV) generation interconnection transmission (gen-tie) line could either be via the First Solar Desert Sunlight 230-kV gen-tie (as a shared facility), or could be a separate facility located on private and BLM-administered lands and would connect to a planned 230- to 500-kV substation (referred to as the Red Bluff Substation). The Red Bluff Substation would connect the project to the Southern California Edison regional transmission grid. If approved, construction would begin in late 2013 and would take 9-12 months to complete.

On September 15, 2011, the BLM published a Notice of Intent (NOI) to prepare an EIS in the Federal Register (76 FR 57073). Publication of the NOI began a 30-day scoping period which ended on October 17, 2011.

Public Scoping Meetings were held on October 3 and 6, 2011. Scoping comments were accepted until October 21, 2011. The BLM considered these comments in developing the Draft EIS.

On April 13, 2012, the BLM published a Notice of Availability for the Draft EIS and CDCA Plan Amendment in the Federal Register. The 90-day public comment period for the Draft EIS ended on July 17, 2012. During the public review period, the BLM hosted two public meetings on May 14, 2012, to solicit input, in Desert Center, CA and Joshua Tree, CA. Comments on the Draft CDCA Plan Amendment/Draft EIS received from the public and internal BLM review were considered and incorporated as appropriate into the Proposed CDCA Plan Amendment and Final EIS. Public comments resulted in the addition of clarifying text, but did not significantly change the analysis or analyzed alternatives.

The Final EIS considers four no action/no development alternatives, four solar facility development alternatives, and four transmission line alternatives.

These alternatives are:

No Action/No Development alternatives:

• Alternative 1: No Action (No Plan Amendment)

• Alternative 2: No Project Alternative (with Plan Amendent to Find the Site Suitable for Solar)

• Alternative 3: No Project Alternative (with Plan Amendment to Find the Site Unsuitable for Solar)

• Alternative A: No Gen-Tie

Generation Plant Development Alternatives:

• Alternative 4: Proposed Solar Project

• Alternative 5: Solar Project Excluding Wildlife Habitat Management Area (WHMA)

• Alternative 6: Reduced Footprint Solar Project

• Alternative 7: High-Profile Reduced Footprint Solar Project

Transmission Line Alternatives:

• Alternative B: Proposed Gen-Tie (Shared Towers with Desert Sunlight Project)

• Alternative C: Separate Transmission Towers within the Same Right-of-Way as the Desert Sunlight Project

• Alternative D: Cross-Valley Alignment

• Alternative E: New Cross-Valley Alignment.

The BLM will select one transmission line alternative and one generation plant alternative. The BLM has identified Alternative 7 as the preferred alternative for the generation plan and Alternative B as the preferred alternative for the transmission line. Instructions for filing a protest with the BLM Director regarding the Desert Harvest Proposed CDCA Plan Amendment may be found in the “Dear Reader” Letter of the Final EIS and at 43 CFR 1610.5-2. All protests must be in writing and mailed to the appropriate address, which you can find in the ADDRESSES section above. Emailed and faxed protests will not be accepted as valid protests unless the protesting party also provides the original letter by either regular or overnight mail postmarked by the close of the protest period. Under these conditions, the BLM will consider the emailed or faxed protest as an advance copy and it will receive full consideration. If you wish to provide the BLM with such advance notification, please direct faxed protests to the attention of the BLM protest coordinator at 202-245-0028, and emails to Brenda_Hudgens-Williams@blm.gov.

Before including your phone number, email address, or other personal identifying information in your protest, you should be aware that your entire protest—including your personal identifying information—may be made publicly available at any time. While you can ask us in your protest to withhold your personal identifying information from public review, we cannot guarantee that we will be able to do so.

Authority: 40 CFR 1506.6, 40 CFR 1506.10, 43 CFR 1610.2; 43 CFR 1610.5.

Thomas Pogacnik,
Deputy State Director, California.

[FR Doc. 2012-27627 Filed 11-8-12; 4:15 pm]

BILLING CODE 4310-40-P